INTERNATIONAL TRADE COMMISSION

[Investigations Nos. 701-TA-286 (Review) and 731-TA-365 (Review)]

Industrial Phosphoric Acid From Israel and Belgium

Determinations

On the basis of the record ¹ developed in the subject five-year reviews, the United States International Trade Commission determines,² pursuant to section 751(c) of the Tariff Act of 1930 (19 U.S.C. 1675(c)) (the Act), that revocation of the countervailing duty order on industrial phosphoric acid from Israel and the antidumping duty order on industrial phosphoric acid from Belgium would not be likely to lead to continuation or recurrence of material injury to an industry in the United States within a reasonably foreseeable time.

¹ The record is defined in sec. 207.2(f) of the Commission's Rules of Practice and Procedure (19 CFR § 207.2(f)).

² Chairman Lynn M. Bragg not participating.

Background

The Commission instituted these reviews on March 1, 1999 (64 FR 10017) and determined on June 3, 1999, that it would conduct full reviews (64 FR 31610, June 11, 1999). Notice of the scheduling of the Commission's reviews and of a public hearing to be held in connection therewith was given by posting copies of the notice in the Office of the Secretary, U.S. International Trade Commission, Washington, DC, and by publishing the notice in the Federal Register on July 16, 1999 (64 FR 38474).³ The hearing was held in Washington, DC, on March 30, 2000, and all persons who requested the opportunity were permitted to appear in person or by counsel.

³ The Commission subsequently revised its schedule, publishing notice in the Federal Register on January 7, 2000 (65 FR 1173).

The Commission transmitted its determination in these reviews to the Secretary of Commerce on May 22, 2000. The views of the Commission are scontained in USITC Publication 3302 (May 2000), entitled Industrial Phosphoric Acid from Israel and Belgium: Investigations Nos. 701-TA-286 (Review) and 731-TA-365 (Review).

Issued: May 24, 2000.
By order of the Commission.
Donna R. Koehnke,
Secretary.

[FR Doc. 00-13807 Filed 6-1-00; 8:45 am]

BILLING CODE 7020-02-P